DEPARTMENT OF TRANSPORTATION

Federal Aviation Administration

Proposed Advisory Circular (AC) 145-MAN, Guide for Developing and Evaluating Repair Station and Quality Control Manuals

AGENCY: Federal Aviation Administration (FAA), DOT.

ACTION: Notice of Availability of a proposed AC; extension of Comment period.

SUMMARY: This notice announces the extension of the comment period on proposed AC 145-MAN, which provides an acceptable means, but not the only means, of developing manuals that are required by regulation for aeronautical repair stations. This notice is necessary to give all interested persons the opportunity to present their views about the proposed AC.

DATES: Comments about the proposed AC must be received on or before February 5, 2002.

ADDRESSES: Send comments about the proposed AC to Diana L. Frohn, General Aviation and Commercial Branch (AFS-340), Room 827, Federal Aviation Administration, 800 Independence Ave., SW., Washington, DC 20591; telephone: (202) 267-7027; e-mail: diana.frohn@faa.gov. You can also submit comments electronically using the Internet on the “Draft AW documents” page at http://www.opspecs.com. Comments may be inspected at the above office between 9 a.m. and 4 p.m. weekdays, except Federal holidays.

FOR FURTHER INFORMATION CONTACT: Diana L. Frohn at the above address, e-mail address, or telephone number.

Availability of the of the Proposed Avisory Circular

You can get a copy of the proposed AC by contacting the person named under FOR FURTHER INFORMATION CONTACT. You can also get an electronic copy of the proposed AC using the Internet on the “Draft AW documents” page at http://www.opspecs.com or on the FAA's “Regulatory Guidance Library” page at http://www1.airweb.faa.gov/Regulatory_and_Guidance_Library/rgDAC.nsf/MainFrame?OpenFrameSet.

Comments Invited

Interested persons are invited to comment about the proposed AC by sending written data, views, or arguments. Commenters should indicate AC 145-MAN, Guide for Developing and Evaluating Repair Station and Quality Control Manuals, in the comment and send comments to the address specified above. The Continuous Airworthiness Maintenance Division will consider all comments before issuing the final AC.

Background

This proposed AC is the result of an amendment to part 145 of Title 14, Code of Federal Regulations (14 CFR), published in the Federal Register on August 6, 2001. The final rule changed procedures and requirements for aeronautical repair stations and requires repair stations to develop a repair station manual and a quality control manual. The current AC (AC 145-3, dated February 13, 1981) does not incorporate these new procedures and requirements, nor does it reflect industry practices used by certificated repair stations today. FAA, therefore, finds it necessary to discard current guidance materials and proposed new guidance material. This proposed AC would replace AC 145-3.

The proposed AC incorporates several examples of quality systems that repair stations may choose from to determine which best suits their individual needs. The proposed AC also incorporates several “checklists” to determine if the repair station has fully considered all its options and requirements. Further, this AC aids in the development of procedures and programs to assist the harmonizations efforts of FAA with the European Joint Aviation Authority and other regulatory authorities.

FAA will consider each comment about the proposed AC and incorporate appropriate changes. This proposed AC will be reviewed in conjunction with the regulatory requirements of 14 CFR parts 43, 65, and 121, as applicable. This proposed AC would not change, add, or delete any regulatory requirement or authorize any deviation from parts 43, 65, or 121.

Issued in Washington, DC on November 15, 2002.
Louis C. Cusimano,
Deputy Director, Flight Standards Service.

[FR Doc. 02-29666 Filed 11-20-02; 8:45 am]

BILLING CODE 4910-13-M